DEPARTMENT OF DEFENSE

Office of the Secretary

[Transmittal No. 19-45]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-45 with attached Policy Justification and Sensitivity of Technology.

Dated: December 12, 2019.
Aaron T. Siegel,
Alternate OSD Federal Register Liaison Officer, Department of Defense.

BILLING CODE 5001-06-P

BILLING CODE 5001-06-C

Transmittal No. 19-45

Notice of Proposed Issuance of Letter of Offer Pursuant to Section 36(b)(1) of the Arms Export Control Act, as amended

(i) Prospective Purchaser: Kingdom of Morocco

(ii) Total Estimated Value:

Major Defense Equipment * | $700 million
Other | $ 76 million
TOTAL | $776 million

(iii) Description and Quantity or Quantities of Articles or Services under Consideration for Purchase:

Major Defense Equipment (MDE):

Two thousand four hundred and one (2,401) TOW 2A, Radio Frequency (RF) Missiles (BGM-71-4B-RF)

Twenty-eight (28) TOW 2A, Radio Frequency (RF) Missiles (BGM-71-4B-RF) Fly-to-Buy Lot Acceptance Missiles

Four hundred (400) M220A2 TOW Launchers and/or four hundred (400) M41 Improved Target Acquisition System (ITAS) Launchers

Non-MDE: Also included are missile support equipment; Government furnished equipment; technical manuals/publications; spare parts; tool and test equipment; training; U.S. Government technical and logistical support, contractor technical support, and other associated equipment and services.

(iv) Military Department: Army

(v) Prior Related Cases, if any: MO-B-USZ

(vi) Sales Commission, Fee, etc., Paid, Offered, or Agreed to be Paid: None

(vii) Sensitivity of Technology Contained in the Defense Article or Defense Services Proposed to be Sold: See Attached Annex.

(viii) Date Report Delivered to Congress: September 11, 2019

* As defined in Section 47(6) of the Arms Export Control Act.

POLICY JUSTIFICATION

Morocco—TOW 2A, Radio Frequency (RF) Missiles (BGM-71-4B-RF)

The Government of Morocco has requested a possible sale of two thousand four hundred and one (2,401) TOW 2A, Radio Frequency (RF) Missiles (BGM-71-4B-RF); and twenty eight (28) TOW 2A, Radio Frequency (RF) Missiles (BGM-71-4B-RF), Fly-to-Buy missiles for lot acceptance testing; and Four hundred (400) M220A2 TOW Launchers and/or four hundred (400) M41 Improved Target Acquisition System (ITAS) Launchers. Also included are missile support equipment; Government furnished equipment; technical manuals/publications; spare parts; tool and test equipment; training; U.S. Government technical and logistical support, contractor technical support, and other associated equipment and services. The estimated cost is $776 million.

This proposed sale will support the foreign policy and national security of the United States by helping to improve the security of a major Non-NATO ally that continues to be an important force for political stability and economic progress in North Africa.

The proposed sale of the TOW 2A Missiles and TOW Launchers will advance Morocco's efforts to develop an integrated ground defense capability. A strong national defense and dedicated military force will assist Morocco to sustain itself in its efforts to maintain stability.

The proposed sale of this equipment will not alter the basic military balance in the region.

The principal contractors involved in this program are Raytheon Missile Systems, Tucson, Arizona and McKinney, Texas. There are no known offset agreements proposed in connection with this potential sale.

Implementation of this proposed sale will not require the U.S. Government or contractor representatives to travel to Morocco.

There will be no adverse impact on U.S. defense readiness as a result of this proposed sale.

Transmittal No. 19-45

Notice of Proposed Issuance of Letter of Offer Pursuant to Section 36(b)(1) of the Arms Export Control Act

Annex

Item No. vii

(vii) Sensitivity of Technology:

1. The TOW 2A, Radio Frequency (RF) Missiles (BGM-71-4B-RF) is a direct attack missile designed to defeat armored vehicles, reinforced urban structures, field fortifications and other such targets. TOW missiles are fired from a variety of TOW launchers in the U.S. Army, USMC, and FMS customer forces. The TOW 2A RF missile can be launched from the same launcher platforms as the existing wire-guided TOW 2A missile without modification to the launcher. The TOW 2A missile (both wire & RF) contains two tracker beacons (xenon and thermal) for the launcher to track and guide the missile in flight. Guidance commands from the launcher are provided to the missile by a RF link contained within the commands from the missile case. The hardware, software, and technical publications provided with the sale are UNCLASSIFIED. However, the system itself contains sensitive technology that instructs the system on how to operate in the presence of countermeasures.

2. Improved Target Acquisition System (ITAS) is designed to fire all existing versions of the TOW missile and consists of a Target Acquisition Subsystem (TAS), a Fire Control Subsystem (FCS), a Li-Ion Battery Box (LBB), a modified Traversing Unit (TU) plus the standard launch tube and tripod. The ITAS provides for the integration of both the direct view optics and a second generation Standard Advanced Dewar Assembly (SADA) II thermal sensor into a single housing; direct view optics that provide viewing the target scene in daylight and non-obscured conditions; introduction of both passive and active eye safe laser-ranging; development of embedded training and training sustainment; automatic bore sight which allows the gunner to align the night vision system with the direct view optics; insertion of advanced Built-in Test/Built-in Test Equipment (BIT/BITE) which provides fault detection and recognition and go/no go status for the gunner; and an Aided Target Tracker (ATT) that provides the capability to process infrared imagery into recognizable contour features used to assist the gunner's aim point.

3. If a technologically advanced adversary were to obtain knowledge of the specific hardware and software elements, the information could be used to develop countermeasures that might reduce weapon system effectiveness or be used in the development of a system with similar or advanced capabilities.

4. A determination has been made that Morocco can provide substantially the same degree of protection for the sensitive technology being released as the U.S. Government. This sale is necessary in furtherance of the U.S. foreign policy and national security objectives outlined in the Policy Justification.

5. All defense articles and services listed in this transmittal are authorized for release and export to the Government of Morocco.

[FR Doc. 2019-27292 Filed 12-18-19; 8:45 am]

BILLING CODE 5001-06-P